GOVERNMENT ACCOUNTABILITY OFFICE

System of Personnel Records

AGENCY: Government Accountability Office.

ACTION: Notice of Establishment of Human Capital Management System of Records.

SUMMARY: The Government Accountability Office (GAO) proposes to establish a new system of personnel records under its privacy regulations, Privacy Procedures for Personnel Records. This Human Capital Management System of Records encompasses GAO payroll- and personnel-related information maintained by GAO and exchanged with the U.S. Department of Agriculture's National Finance Center (USDA/NFC) and the U.S. Department of the Treasury's HR Connect program (Treasury/HR Connect). To support its human capital management activities, GAO has entered into interagency agreements with these two Federal Executive Branch agencies as shared service providers. USDA/NFC provides payroll and personnel information processing (Department of Agriculture, Systems of Record Notice OP-1), and Treasury/HR Connect operates a human capital management support system (Department of Treasury .001—Treasury Payroll and Personnel System). The policies and procedures described in this notice are intended to ensure that personal information contained in GAO's personnel records is protected as provided by GAO's privacy regulation.

DATES: Comments may be submitted on or before September 14, 2009.

ADDRESSES: Comments should be sent to: Government Accountability Office, Privacy Office, Room 1127, 441 G St., NW., Washington, DC 20548, or by e-mail to privacy@gao.gov. Please include reference to “Comment: Human Capital Management System of Records” at the top of a comment letter or in the subject line of an e-mail.

FOR FURTHER INFORMATION CONTACT: For information about GAO human capital information management, contact the Chief Human Capital Officer, Government Accountability Office, Room 1157, 441 G St., NW., Washington, DC 20548; e-mail, HCOhelp@gao.gov. For information about GAO privacy protections, contact the Chief Agency Privacy Officer, Government Accountability Office, Room 1127, 441 G St., NW., Washington, DC 20548; e-mail, privacy@gao.gov.

SUPPLEMENTARY INFORMATION:

Background

A. GAO. GAO is an independent, nonpartisan Legislative Branch agency that examines a wide range of government activities and provides analyses, recommendations, and other assistance to help Congress make sound oversight, policy, and funding decisions. As a Legislative Branch agency, GAO is not subject to the privacy and information security laws applicable to Executive Branch agencies, such as the Privacy Act of 1974 (Privacy Act), Federal Information Security Management Act of 2002 (FISMA), the E-Government Act of 2002 (E-Government Act), and Office of Management and Budget (OMB) and National Institute of Standards and Technology (NIST) guidance issued under those laws. Nonetheless, it is GAO's policy to conduct its activities in a manner consistent with the spirit of those laws and guidance generally applicable to Executive Branch agencies, and related best practices.

Notwithstanding the similarities with privacy and information security laws, regulations, or policies applicable to Executive Branch agencies, GAO's application of, or compliance with, those laws, regulations, or policies shall not be interpreted as controlling legal authorities over GAO. The GAO regulation, 4 CFR Part 83, Privacy Procedures for Personnel Records, provides the basis for this notice.

B. GAO Human Capital Management. The GAO Human Capital Management System of Records, managed by GAO's Human Capital Office (HCO), is comprised of information supporting GAO human capital activities, primarily relating to pay, benefits, performance, recruitment, and personnel actions. This information is maintained in paper and electronic formats, including in the GAO Competency Based Performance System (CBPS), which tracks employee performance reviews; My Locator, which compiles contact information of GAO employees and contractors; and WebTA, which records time and attendance for GAO employees.

GAO Human Capital Management information is also maintained and managed in systems of records operated by two Federal human capital shared service providers: the U.S. Department of Agriculture (USDA), and the U.S. Department of the Treasury (Treasury), and contractors supporting these agencies. In order to streamline its human capital processes, reduce costs, and improve efficiencies, GAO has entered into agreements for the provision of human capital management services with these agencies.

The USDA's National Finance Center (NFC) provides payroll processing and related services. The Treasury HR Connect program operates an automated human resources system to support human capital management activities in Treasury and other Federal agencies through cross-servicing agreements. Implementation of GAO's agreements with USDA/NFC and Treasury/HR Connect will be phased in over 18 months. Full implementation is scheduled for January 2011.

Authorized GAO employees access human capital information maintained in GAO systems and in systems maintained by GAO's shared service providers and their contractors. All information is securely transmitted to and from GAO and its shared service providers and their contractors as necessary to support agreed upon human capital management activities (e.g., employment application processing, recruiting, hiring, pay, promotions, employee awards processing, and compiling reports).

For a description of the privacy protections provided by USDA/NFC and Treasury/HR Connect, as required by law of Executive Branch agencies, see the following: Treasury/HR Connect Privacy Act System of Records Notice, http://www.ustreas.gov/foia/privacy/treas001.html; Treasury/HR Connect Privacy Impact Assessment (PIA), http://www.treas.gov/pia/HRCPIA05-01-2008v10Final.pdf; NFC Privacy Act System of Records Notice (Personnel and Payroll System for USDA/NFC Employees USDA/NFC/OP-1), http://www.ocio.usda.gov/OP%20-%201.txt; and NFC PIA, http://www.usda.gov/documents/NFC_Mainframe_GSS_Redacted_PIA.doc. Privacy protections for GAO information maintained by contractors of those agencies are provided under contracts between the agencies and their contractors. The text of GAO's human capital management system of records is set forth below.

SYSTEM NAME:

Government Accountability Office, Human Capital Management System of Records.

SYSTEM LOCATION:

Information maintained in this system of records is located at GAO headquarters in Washington, DC, and GAO field offices. GAO human capital information exchanged with Federal shared service providers (i.e., USDA/NFC and Treasury/HR Connect) is maintained in those agencies' systems of records. GAO human capital information maintained by contractors of those shared service providers is maintained at information processing facilities under the control of those contractors.

CATEGORIES OF INDIVIDUALS COVERED BY THE SYSTEM:

This system of records contains information on current GAO employees, former GAO employees, and applicants for GAO employment.

CATEGORIES OF RECORDS IN THE SYSTEM:

This system of records contains GAO human capital information, which comprises both biographic and employment information. Biographic information includes identifying information (e.g., name, social security number, date of birth, gender, race, and national origin), education, and disabilities. Employment information includes compensation (e.g., salary, date of salary increases, pay plan, pay basis, sick and annual leave balances), benefits (e.g., pension, Thrift Savings Plan, health insurance, life insurance, Medicare and Federal Employees Compensation Act benefits), employment actions (e.g., promotions, demotions, removals), performance appraisals (e.g., individual ratings), veterans preference, military service, work schedule (e.g., telework and alternate work schedule), awards, dates of probationary periods, type of position appointment, and changes in position (e.g. position identification number, occupational series, organization location, and accounting classification codes), payroll data such as earnings and deductions (e.g., Federal, State, and local taxes), time and attendance data, and training courses attended. Both biographic and employment information may be maintained in electronic and paper format.

AUTHORITY FOR MAINTENANCE OF THE SYSTEM:

4 CFR Part 83; System of Personnel Records.

PURPOSE:

The purpose of this system of records is to maintain records relating to current and former GAO employees and applicants for GAO employment as are relevant and necessary to efficiently and effectively conduct authorized GAO human capital management activities.

ROUTINE USES OF RECORDS MANTAINED IN THE SYSTEM, INCLUDING CATEGORIES OF USERS AND THE PURPOSES OF SUCH USES:

All or a portion of personal information maintained in this system of records may only be disclosed as permitted under 4 CFR Part 83, http://www.access.gpo.gov/nara/cfr/waisidx_09/4cfr83_09.html. Specifically, such information shall not be disclosed to any person or entity without the written consent of the individual to whom the information pertains, except as permitted under § 83.4 and § 83.5. As permitted under § 83.4(a) and § 83.19, personal information in this system of records may be disclosed to those GAO employees and contractors who have a need for the record in the performance of their official duties. All or a portion of the records in this system of records may be disclosed as a routine use pursuant to § 83.4(c) in support of GAO's human capital management activities, as follows:

(a) To Federal shared service providers and their contractors as reasonably necessary to provide agreed upon services to support GAO human capital management activities;

(b) To Federal, State, local, territorial, Tribal, or foreign law enforcement authorities or other appropriate entities where a record, either alone or in conjunction with other information, indicates a violation, or potential violation, of law or regulation, and where such entities are responsible for investigating or prosecuting such violation or enforcing or implementing such law or regulation;

(c) To Federal, State, local, or international agencies in connection with an individual's hiring, employment, related benefits, suitability, or security investigation, or security clearance; or in connection with the letting of a contract, or the issuance of a grant or other benefit to the extent that GAO determines the information is relevant and necessary to an agency or organization's decision;

(d) To Federal agencies to verify or determine the citizenship or immigration status of any individual seeking employment with GAO or as required by law;

(e) To agencies, entities, and persons when: (1) GAO suspects or has confirmed that the security or confidentiality of information in this system of records has been compromised; (2) GAO has determined that as a result of the suspected or confirmed compromise there is a risk of harm to economic or property interests, identity theft or fraud, or harm to the security or integrity of this system or other systems or programs (whether maintained by GAO or another agency or entity) that rely upon the compromised information; and (3) the disclosure made to such agencies, entities, and persons is reasonably necessary to assist in connection with GAO's efforts to respond to a suspected or confirmed compromise and prevent, minimize, or remedy such harm;

(f) To an agency, organization, or individual for the purposes of performing audit or oversight operations as authorized by law, but only such information as is necessary and relevant to such audit or oversight function; and

(g) To a public or professional licensing, certification, or accreditation organization to confirm the claimed credentials of a GAO applicant or employee, or when information indicates, either by itself or in combination with other information, a violation or potential violation of professional standards, or reflects on the moral, educational, or professional qualifications of an individual who either is seeking to become or is already licensed, certified, or accredited.

RETRIEVABILITY:

Information maintained in the system may be retrieved only by employees of GAO who have a need for the information in the performance of their official duties.

SAFEGUARDS:

Information maintained in the system is safeguarded under 4 CFR 83.7(i), and GAO information systems security policies and procedures. Strict controls are imposed to minimize the risk of compromising the information maintained in this system of records and any of its supporting information systems. Furthermore, GAO human capital information maintained by GAO's Federal shared service providers and their contractors are subject to privacy and security laws applicable to executive branch agencies (e.g., the Privacy Act, FISMA, the E-Government Act), and related regulations, standards, and guidance.

RETENTION AND DISPOSAL:

All GAO human capital information will be retained in accordance with the following schedule:

(a) Time and attendance records are destroyed 7 years after the end of the fiscal year in which they are created.

(b) Individual employee payroll records are destroyed 7 years after the end of the fiscal year in which they are created.

(c) An individual's Official Personnel Folder (OPF) is retained for 65 years after separation.

Compelling legal or policy purposes (e.g., ongoing or potential litigation) may require retention of certain records beyond the retention periods identified above.

SYSTEM MANAGER AND ADDRESS:

The GAO official responsible for this system of records is the Chief Human Capital Officer (CHCO), Human Capital Office, U.S. Government Accountability Office, Room 1157, 441 G St., NW., Washington, DC, 20548.

NOTIFICATION PROCEDURE:

As provided under 4 CFR 83.12-18 and Appendix I to Part 83—Memorandum of Understanding, GAO employees, former employees, or applicants to GAO interested in knowing whether this system of records contains information about them, how to obtain access to such information, or how to contest any element of such information may submit a request in writing to the Chief Privacy Officer, U.S. Government Accountability Office, Room 1127, 441 G St., NW., Washington, DC 20548, or by e-mail to privacy@gao.gov.

RECORD ACCESS PROCEDURES:

See “Notification Procedure” above.

CONTESTING RECORD PROCEDURE:

See “Notification Procedure” above.

RECORD SOURCE CATEGORIES:

Information in this system of records originates from individuals whose personal information is maintained in this system of records, agency records, financial institutions, employee and professional organizations, previous employers, consumer reporting agencies, debt collection agencies, courts, and other government agencies.

EXEMPTIONS CLAIMED FOR THE SYSTEM:

Certain records contained in this system of records are exempt from access, amendment, and other procedural requirements pursuant to 4 CFR 83.21.

Catherine Teti,
Chief Agency Privacy Officer, Government Accountability Office.

[FR Doc. E9-19445 Filed 8-12-09; 8:45 am]

BILLING CODE 1610-02-P